SOCIAL SECURITY ADMINISTRATION

Statement of Organization, Functions and Delegations of Authority

This statement amends Part S of the Statement of the Organization, Functions and Delegations of Authority which covers the Social Security Administration (SSA). Chapter S4 covers the Deputy Commissioner for Systems. Notice is given that Subchapter S4S, the Office of Earnings, Enumeration and Administrative Systems, is being amended to reflect the establishment of a new division, the retitling of a division, and the abolishment of a staff. The new material and changes are as follows:

Section S4S.10 The Office of Earnings, Enumeration and Administrative Systems—(Organization):

Delete:

C. 1. The Independent Verification and Validation Staff (S4S-1).

Retitle:

G. The Division of Enumeration and Exchanges (S4SE) to: “The Division of Enumeration and Verifications (S4SE).”

Establish:

J. The Division of Technology Services and Exchanges (S4SJ).

Section S4S.20 The Office of Earnings, Enumeration and Administrative Systems—(Functions): Paragraph C, Delete the words: “technology leadership,” after the words “administrative staff assistance,” and before the words “planning and customer relations support”.

Delete:

C. 1. In its entirety.

Delete the first sentence from D, paragraph #6. Replace the first sentence of paragraph #6 with the following: “Plans and conducts unit and system-wide functional validation tests of newly developed systems and modifications to existing systems against user defined requirements and performance criteria.”

Delete the first sentence from E, paragraph #5. Replace the first sentence of paragraph #5 with the following: “Plans and conducts unit and system-wide functional validation tests of newly-developed systems and modifications to existing systems against user defined requirements and performance criteria.”

Delete the first sentence from F, paragraph #4. Replace the first sentence of paragraph #4 with the following: “Plans and conducts unit and system-wide functional validation tests of newly-developed systems and modifications to existing systems against user defined requirements and performance criteria.

Retitle:

G. The Division of Enumeration and Exchanges (S4SE). to: “The Division of Enumeration and Verifications (S4SE).” Paragraph #1, Replace the words: “data exchanges.” at the end of the paragraph with the words “SSN verifications.” Paragraph #2. Replace the words: “data exchange.” at the end of the first sentence with the words “SSN verifications.” Paragraph #4, delete the first sentence. Replace the first sentence of paragraph #4 with the following: “Plans and conducts unit and system-wide functional validation tests of newly-developed systems and modifications to existing systems against user defined requirements and performance criteria.”

Delete the first sentence from H, paragraph #4. Replace the first sentence of paragraph #4 with the following: “Plans and conducts unit and system-wide functional validation tests of newly-developed systems and modifications to existing systems against user defined requirements and performance criteria.”

Delete the first sentence from I, paragraph #4. Replace the first sentence of paragraph #4 with the following: “Plans and conducts unit and system-wide functional validation tests of newly-developed systems and modifications to existing systems against user defined requirements and performance criteria.”

Add:

J. The Division of Technology Services and Exchanges (S4SJ).

1. Designs, develops and implements new or redesigned software to meet SSA's automated data processing needs in the broad area of data exchanges.

2. Performs requirements analyses, defining SSA-approved user needs and requirements for automated data processing services for data exchanges. Evaluates legislative proposals, regulations and policy changes and reports on the impact on existing processes and systems. Evaluates the need to develop new software.

3. Develops design specifications and software programs to satisfy user needs as defined in requirements documentation.

4. Plans and conducts unit and system-wide functional validation tests of newly-developed systems and modifications to existing systems against user defined requirements and performance criteria. Certifies that the changes are in conformance with functional specifications.

5. Develops and maintains a comprehensive, updated and integrated set of system documentation, requirements specifications and validation tests of systems changes against user requirements and performance criteria. Certifies that changes are in conformance with specifications for assigned areas of responsibility.

6. Provides technical support of end-users and developers in the use of commercial reporting software. Directs the development of support procedures to monitor user problem resolution and the implementation of software upgrades.

7. Provides technical direction to OEEAS developers in web design and development activities, and in the design of user interfaces. Researches and applies user-centered interface design techniques and serves as the OEEAS expert on usability and human-computer interface issues. Serves as the focal point within OEEAS for the oversight and integration of web-based information delivery and presentation mechanisms for OEEAS applications.

8. Performs and coordinates studies, and researches software and hardware solutions to overarching OEEAS technical issues. Provides high-level analytical expertise for a variety of complex assignments of OEEAS and enterprise-wide scope, such as the technical assessment of proposed IT investments for alignment with and support of SSA's strategic plan, and advance planning for implementation of major new systems integration initiatives.

Dated: May 21, 2003.
Reginald F. Wells,
Deputy Commissioner for Human Resources.

[FR Doc. 03-15184 Filed 6-16-03; 8:45 am]

BILLING CODE 4191-02-P